STATE JUSTICE INSTITUTE

SJI Board of Directors Meeting; Notice

AGENCY: State Justice Institute.

ACTION: Notice of Meeting.

SUMMARY: The SJI Board of Directors will be meeting on Monday, June 16, 2014 at 1:00 p.m. The meeting will be held at the Scott M. Matheson Courthouse in Salt Lake City, Utah. The purpose of this meeting is to consider grant applications for the 3rd quarter of FY 2014, and other business. All portions of this meeting are open to the public.

ADDRESSES: Scott M. Matheson Courthouse, Judicial Council Room, 450 South State Street, Salt Lake City, Utah 84114.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2014-12919 Filed 6-3-14; 8:45 am]

BILLING CODE 6820-SC-P